DEPARTMENT OF HEALTH AND HUMAN SERVICES

Health Resources and Services Administration

Meeting of the National Advisory Council on Nurse Education and Practice

AGENCY: Health Resources and Services Administration, Department of Health and Human Services.

ACTION: Notice.

SUMMARY: In accordance with the Federal Advisory Committee Act, this notice announces that the National Advisory Council on Nurse Education and Practice (NACNEP) will hold public meetings for the 2024 calendar year (CY). Information about NACNEP, agendas, and materials for these meetings can be found on the NACNEP website at https://www.hrsa.gov/advisory-committees/nursing.

DATES: NACNEP meetings will be on (all in Eastern Time):

• March 14, 2024, 10 a.m.-4 p.m. and March 15, 2024, 10 a.m.-4 p.m.;

• May 9, 2024, 10 a.m.-4 p.m.;

• August 7, 2024, 10 a.m.-4 p.m. and August 8, 2024, 10 a.m.-4 p.m.; and

• December 5, 2024, 8 a.m.-5 p.m. and December 6, 2024, 8 a.m.-2 p.m.

ADDRESSES: Meetings may be held in person, via teleconference, and/or video conference. In-person meetings will be held at 5600 Fishers Lane, Rockville, Maryland 20857. For updates on how the meeting will be held and instructions for joining meetings, visit the NACNEP website at https://www.hrsa.gov/advisory-committees/nursing/meetings 14 business days before the date of the meeting.

FOR FURTHER INFORMATION CONTACT: Justin Bala-Hampton, Designated Federal Official, NACNEP, Bureau of Health Workforce, Division of Nursing and Public Health, Health Resources and Services Administration, 5600 Fishers Lane, 11N100D, Rockville, Maryland 20857; 301-443-5260; or Jbala-hampton@hrsa.gov.

SUPPLEMENTARY INFORMATION: NACNEP provides advice and recommendations to the Secretary of Health and Human Services on policy, program development, and other matters of significance concerning the activities under title VIII of the Public Health Service Act, including the range of issues relating to the nurse workforce, education, and practice improvement. NACNEP also prepares and submits an annual report to the Secretary of Health and Human Services and Congress describing its activities, including NACNEP's findings and recommendations concerning activities under Title VIII, as required by the Public Health Service Act.

Since priorities dictate meeting times, be advised that times and agenda items are subject to change. For CY 2024 meetings, agenda items may include, but are not limited to, the nursing workforce (e.g., nursing shortage, distribution, supply, and access) nursing practice improvement, nursing education, nursing work environment and support, and other Title VIII program activities. Refer to the NACNEP website listed above for all current and updated information concerning the CY 2024 NACNEP meetings. Agendas and meeting materials that will be posted up to 30 calendar days but no later 14 calendar days before the meeting.

Members of the public will have the opportunity to provide comments. Public participants may submit written statements in advance of the scheduled meeting(s). Oral comments will be honored in the order they are requested and may be limited as time allows. Requests to submit a written statement or make oral comments to NACNEP should be sent to Justin Bala-Hampton using the contact information above at least 5 business days before the meeting.

Individuals who need special assistance or another reasonable accommodation should notify Justin Bala-Hampton at the email address and phone number listed above at least 10 business days before the meeting(s) they wish to attend. In-person meetings occur in a federal government building, and attendees must pass a security check to enter the building. Non-U.S. citizen attendees must notify Justin Bala-Hampton of their planned attendance at least 20 business days prior to the meeting to facilitate their entry into the building. All attendees are required to present government-issued identification prior to entry.

Maria G. Button,
Director, Executive Secretariat.

[FR Doc. 2023-27618 Filed 12-14-23; 8:45 am]

BILLING CODE 4165-15-P